DEPARTMENT OF TRANSPORTATION

Coast Guard

33 CFR Part 173

[USCG 1999-6094]

RIN 2115-AF87

Raising the Threshold of Property Damage for Reports of Accidents Involving Recreational Vessels

AGENCY: Coast Guard, DOT.

ACTION: Final rule; partial suspension of rule with request for comments.

SUMMARY: On May 1, 2001, the Coast Guard published a final rule raising the threshold of damage to property for reports of accidents involving recreational vessels when damage to vessels and other property totals $2,000 or more in any one accident. The rule also included a second provision requiring reports of collisions involving two or more vessels resulting exclusively in damage to property, regardless of the amount of such damage. After issuance of the rule, a State Boating Law Administrator expressed concern about the second provision. Because of this concern, we are suspending that provision and are inviting comments on the provision.

DATES: Effective date: July 2, 2001. Comments must reach the Facility specified in ADDRESSES on or before September 24, 2001.

ADDRESSES: Identify your comments and related material by the docket number for this rulemaking [USCG-1999-6094]. To make sure they do not enter the docket more than once, please submit them by only one of the following means:

(1) By mail to the Docket Management Facility, U.S. Department of Transportation, room PL-401, 400 Seventh Street SW., Washington, DC 20590-0001.

(2) By hand-delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Internet Site for the Docket Management System at http://dms.dot.gov.

The Docket Management Facility maintains the public docket for this rulemaking. Comments and material received from the public, as well as documents mentioned in this preamble as being available in the docket, will become part of this docket and will be available for inspection or copying at room PL-401 on the Plaza level of the Nassif Building, at the address listed above between 9 a.m. and 5 p.m., Monday through Friday, except Federal holidays. You may also find this docket on the Internet at http://dms.dot.gov. You may obtain a copy of this partial suspension of final rule by calling the U.S. Coast Guard Infoline at 1-800-368-5647, or read it on the Internet, at the Web Site for the Office of Boating Safety, at http://www.uscgboating.org or at http://dms.dot.gov.

FOR FURTHER INFORMATION CONTACT: For questions on this proposed rule, contact Bruce Schmidt, Project Manager, Office of Boating Safety, U.S. Coast Guard, by telephone at 202-267-0955 or by e-mail at bschmidt@comdt.uscg.mil. For questions on viewing or submitting material to the docket, call Dorothy Beard, Chief, Dockets, Department of Transportation, telephone 202-366-5149.

SUPPLEMENTARY INFORMATION:

Regulatory History

The regulatory history for this rulemaking appears in the preamble of the final rule entitled “Raising the Threshold of Property Damage for Reports of Accidents Involving Recreational Vessels” [66 FR 21671 (May 1, 2001)].

Reason for Partial Suspension of Effective Date

After issuance of the final rule, a State Boating Law Administrator expressed concern about a provision in the rule requiring reports of all collisions involving two or more vessels resulting exclusively in damage to property, regardless of the amount of such damage.

Currently, few States have statutory authority to require reports of multi-vessel accidents that result neither in personal injury nor in any damage to property. Further, States' legislative calendars preclude compliance by the published effective date, July 2, 2001. We note that States' legislation would be unnecessary if the provision for reporting collisions of two or more vessels included a threshold of $500, since all States do now maintain such a threshold. In response to the concern raised about the impacts on States' legislation, the Coast Guard has decided to suspend the provision in 33 CFR 173.55(a)(3), requiring a report whenever “* * * a collision occurs involving two or more vessels, regardless of the amount of damage to property; * * *”, and to provide a 90-day comment period on the provision. To facilitate the editorial handling of this suspension, Coast Guard is designating this provision as paragraph (a)(3)(ii) of § 173.55. The first provision raising the threshold of damage to $2000 is designated as paragraph (a)(3)(i) and remains effective July 2, 2001.

Request for Comments

We encourage you to participate in this rulemaking by submitting to the Facility specified in ADDRESSES comments and related material limited to the requirements of the provision in newly designated 33 CFR 173.55(a)(3)(ii). We will consider all comments received during the comment period and may change 33 CFR 173.55(a)(3) in response to the comments.

Dated: June 19, 2001.
Kenneth T. Venuto,
Rear Admiral, U.S. Coast Guard, Acting Assistant Commandant for Operations.

For the reasons set forth in the preamble, 33 CFR part 173 is amended as follows:

PART 173—VESSEL NUMBERING AND CASUALTY AND ACCIDENT REPORTING

1. The authority citation for part 173 continues to read as follows:

Authority: 31 U.S.C. 9701; 46 U.S.C. 2110, 6101, 12301, 12302; OMB Circular A-25; 49 CFR 1.46.

§ 173.55 [Amended]

2. In § 173.55 in paragraph (a)(3), the text reading “Damage to vessels and other property totals $2000 or more or there is a complete loss of any vessel; or” is designated as paragraph (a)(3)(i), and the remainder of the paragraph is designated as paragraph (a)(3)(ii) and suspended indefinitely.

[FR Doc. 01-15838 Filed 6-25-01; 8:45 am]

BILLING CODE 4910-15-U